DEPARTMENT OF DEFENSE

Office of the Secretary

[Transmittal No. 18-0C]

Arms Sales Notification

AGENCY: Defense Security Cooperation Agency, Department of Defense.

ACTION: Arms sales notice.

SUMMARY: The Department of Defense is publishing the unclassified text of an arms sales notification.

FOR FURTHER INFORMATION CONTACT: DSCA at dsca.ncr.lmo.mbx.info@mail.mil or (703) 697-9709.

SUPPLEMENTARY INFORMATION: This 36(b)(5)(c) arms sales notification is published to fulfill the requirements of section 155 of Public Law 104-164 dated July 21, 1996. The following is a copy of a letter to the Speaker of the House of Representatives and Transmittal 18-0C with attached Policy Justification.

Dated: November 2, 2018.
Aaron T. Siegel,
Alternate OSD Federal Register Liaison Officer, Department of Defense.

Transmittal No. 18-0C

REPORT OF ENHANCEMENT OR UPGRADE OF SENSITIVITY OF TECHNOLOGY OR CAPABILITY (SEC. 36(B)(5)(C)), (AECA)

(i) Purchaser: Government of Bahrain

(ii) Sec. 36(b)(1), AECA Transmittal No.: 16-59

Date: September 8, 2017

Military Department: U.S. Air Force

(iii) Description: On September 8, 2017, Congress was notified by Congressional certification transmittal number 16-59 of the possible upgrade of its existing twenty (23) F-16 Block 40 aircraft to the F-16V configuration. The requested sale comprises twenty-three (23) F-110-GE-129 engines (includes 3 spares); twenty-three (23) APG-83 Active Electronically Scanned Array Radars (includes 3 spares); twenty-three (23) Modular Mission Computers (includes 3 spares); twenty-three (23) Embedded Global Navigation Systems/LN260 EGI (includes 3 spares); twenty-three (23) Improved Programmable Display Generators (iPDGs) (includes 3 spares); forty (40) LAU-129 launchers; twenty-five (25) AN/AAQ-33 SNIPER Pods; two (2) AIM-9X Sidewinder Missiles; two (2) AGM-88 High-speed Anti-Radiation Missiles (HARM); two (2) WGU-43 Guidance Control Unit (GBU) Guidance Control Unit (GCU) (for GBU-24 Paveway III); two (2) BSU-84 Air Foil Group (AFG) (for GBU-24 Paveway III); five (5) KMU-572 Joint Direct Attack Munition (JDAM) Tailkits (for GBU-38 JDAM and GBU-54 Laser JDAM); two (2) GBU-39 Small Diameter Bombs (SDB) Guided Test Vehicles (GTV); two (2) AGM-84 Harpoon Exercise Missiles; three (3) MAU-210 ECCG (for GBU-50 Enhanced Paveway II); three (3) BLU-109 Inert Bomb Bodies; four (4) MK-82/BLU-111 Inert Bomb Bodies; and two (2) FMU-152 or FMU-139 Fuzes.

This sale also included one (1) Joint Mission Planning System, one (1) F-16V simulator, twenty (20) AN/ALQ-211 AIDEWS Systems, one (1) avionics level test station, six (6) DB-110 Advanced Reconnaissance Systems, two (2) LAU-118A Launchers, forty-five (45) AN/ARC-238 SINCGARS Radio or equivalent, twenty-three (23) Advanced Identification Friend or Foe (AIFF) systems or equivalent; twenty-three (23) cryptographic appliques; two (2) CATM-9L/M, two (2) AIM-120C-7 Advanced Medium Range Air-to-Air Missile (AMRAAM) Captive Air Training Missiles (CATM), three (3) MXU-651 AFG (for GBU-50 Enhanced Paveway II), four (4) DSU-38 Precision Laser Guidance sets (PLGS) (for GBU-54 Laser JDAM), four (4) AGM-154 Joint Stand-Off Weapon (JSOW) Captive Flight Vehicles (CFV), three (3) MK-84/BLU-117 Inert Bomb Bodies, two (2) FMU-152 D-1 Inert Fuzes, three (3) BRU-57 Bomb Racks, two (2) BRU-61 Bomb Racks for SDB, two (2) ADU-890 SDB adapter cable for CMBRE, two (2) ADU-891 AMRAAM/AIM-9X adapter cable for CMBRE, Telemetry for all flight test assets secure communication equipment, spares and repair parts, support equipment, personnel training and training equipment, publications and technical documentation, U.S. Government and contractor technical support services, containers, missile support and test equipment, integration test, site survey, design, construction studies/analyses/services, associate operations, maintenance, training, support facilities, cybersecurity, critical computer resources support, force protection, and other related elements of logistics and program support. The total estimated program cost is $1.082 billion. Major Defense Equipment (MDE) constituted $406 million of this total.

This transmittal reports:

1. The inclusion of twenty-three (23) Multifunction Information Distribution System Joint Tactical Radio System (MIDS-JTRS) Concurrent Multi-Networking-4 (CMN-4) which are MDE;

2. The inclusion of an additional nineteen (19) AN/ALQ-211 Advanced Integrated Defensive Electronic Warfare Suite (AIDEWS) Systems (non-MDE), which will increase the number from twenty (20) to thirty-nine (39). These additional nineteen (19) were not included in the total value of the AIDEWS systems previously notified. This change was due to a change in system requirements and a desire to prioritize system components with long lead procurement timelines; and

3. The inclusion of additional test weapons quantities and MDE designations outlined below:

a. BLU-109—Increase from quantity of three (3) to four (4)

b. Bomb Practice GBU-39 Guided Test Vehicle (GTV)—MDE item not on original notification

c. MK-82 Inert Filled Bomb Body—Increase in quantity of four (4) to six (6)—MDE not on original notification

d. KMU-572 JDAM Tail Kit—Quantity of five (5) not included on original Congressional Notification and MDE designation not on original notification

e. MXU-650 Air Foil Group—Quantity of two (2) not included on original Congressional Notification and MDE designation not on original notification

f. MXU-651 Air Foil Group—MDE designation not on original notification

g. MAU-210 Enhanced Computer Control Group—Increase in quantity of three (3) to four (4) and MDE designation not on original notification. Also correct that this MAU is for the GBU-49, not the GBU-50 as outlined in the original notification.

h. FMU-152—Quantity of six (6) not included on original Congressional Notification and MDE designation not on original notification

These changes are due to unit pack minimum required quantities, items not properly identified as MDE on the original notification, and errors in requirements identification by the procuring office.

The inclusion of these MDE items will not increase the value of MDE beyond what was originally notified. The inclusion of AIDEWS will cause the total case value to rise from $1.082 billion to $1.292 billion.

(iv) Significance: This notification reports items not included at the time of the original notification. Inclusion and delineation of these items results in an increase in capability over what was originally notified. This proposed sale of the MIDS-JTRS CMN-4, AIDEWS, and additional test weapons will contribute to the crypto modernization, electronic defense, and weapons test capabilities of Bahrain's air fleet, and enhance its interoperability with the United States and NATO members.

(v) Justification: This proposed sale will contribute to the foreign policy and national security of the United States by helping to improve the security of a Major non-NATO ally in developing and maintaining a strong and ready self-defense capability. This proposed sale will enhance U.S. national security objectives in the region.

(vi) Sensitivity of Technology:

1. Multifunctional Information Distribution System Joint Tactical Radio Systems Concurrent Multi-Netting 4 (MIDS JTRS CMN-4) is classified CONFIDENTIAL. MIDS JTRS CMN-4 is a secure data and voice communication network using the Link-16 architecture. The system provides enhanced situational awareness, positive identification of participants within the network, secure fighter-to-fighter connectivity, and secure voice capability. It provides three major functions: Air Control, Wide Area Surveillance, and Fighter-to-Fighter. The MIDS JTRS CMN-4 can be used to transfer data in Air-to-Air, Air-to-Surface, and Air-to-Ground scenarios.

2. The Sensitivity of Technology statement contained in the original transmittal applies to the other items notified here.

(vii) Date Report Delivered to Congress: September 28, 2018

[FR Doc. 2018-24402 Filed 11-7-18; 8:45 am]

BILLING CODE 5001-06-P